DEPARTMENT OF THE INTERIOR

Bureau of Reclamation

[RR83550000, 190R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; mkelly@usbr.gov; telephone (303) 445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

FR Federal Register

IDD Irrigation and Drainage District

ID Irrigation District

M&I Municipal and Industrial

O&M Operation and Maintenance

OM&R Operation, Maintenance, and Replacement

P-SMBP Pick-Sloan Missouri Basin Program

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone (208) 378-5344.

The Pacific Northwest Region has no changes to report for this quarter.

Mid-Pacific Region: Bureau of Reclamation, 2800 Cottage Way, Sacramento, California 95825-1898, telephone (916) 978-5250.

New contract actions:

50. Truckee-Carson ID, Newlands Project, Nevada: Negotiation and execution of an OM&R transfer agreement for the Newlands Project.

51. North Kern and and Buena Vista Water Storage Districts, Kern River Project, California: Contract for reimbursement of SOD costs assigned to the irrigation component of Isabella Dam.

52. Individual, Klamath Project, Oregon: Warren Act (Section 2) contract termination.

Lower Colorado Region: Bureau of Reclamation, P.O. Box 61470 (Nevada Highway and Park Street), Boulder City, Nevada 89006-1470, telephone (702) 293-8192.

Completed contract action:

8. Reclamation, Davis Dam (Davis Dam) and Big Bend WD; BCP; Arizona and Nevada: Enter into proposed “Agreement for the Diversion, Treatment, and Delivery of Colorado River Water” for the District to divert, treat, and deliver to Davis Dam the Davis Dam Secretarial Reservation amount of up to 100 acre-feet per year of Colorado River water. Agreement executed on February 22, 2019.

Upper Colorado Region: Bureau of Reclamation, 125 South State Street, Room 8100, Salt Lake City, Utah 84138-1102, telephone (801) 524-3864.

New contract action:

27. Albuquerque Bernalillo County Water Utility Authority, San Juan-Chama Project, New Mexico: Requested a contract to store up to 50,000 acre-feet of project water in Elephant Butte Reservoir. The proposed contract would have a 40-year maximum term, which due to ongoing consultations with the U.S. Fish and Wildlife Service, the existing contract No. 3-CS-53-01510 which expired on January 26, 2008, has been extended annually. The Act of December 29, 1981, Public Law 97-140, 95 Stat. 1717 provides authority to enter into this contract. Reclamation is conducting environmental compliance to proceed with the 40-year contract.

Completed contract action:

20. Mancos Water Conservancy District, Mancos Project, Colorado: The District and Reclamation are discussing an amendment to the Public Law 111-11 repayment contract for rehabilitation of the Jackson Gulch facilities to continue to facilitate the District's ability to receive funding under the legislation. Contract executed on May 7, 2009.

Great Plains Region: Bureau of Reclamation, P.O. Box 36900, Federal Building, 2021 4th Avenue North, Billings, Montana 59101, telephone (406) 247-7752.

New contract actions:

30. Kansas Bostwick ID No. 2; Bostwick Division, P-SMBP; Kansas: Consideration of contract for repayment of SOD costs.

31. Bostwick ID in Nebraska; Bostwick Division, P-SMBP; Nebraska: Consideration of contract for repayment of SOD costs.

32. Midvale ID; Riverton Unit, P-SMBP; Wyoming: Consideration for renewal of repayment contract No. 14-06-600-444A.

33. Lucerne Water and Sewer District, P-SMBP, Wyoming: Consideration for renewal of contract No. 1-07-60-WS091.

34. Town of Shoshoni, P-SMBP, Wyoming: Consideration for renewal of contract No. 0-07-60-WS083.

Completed contract action:

11. Donala Water and Sanitation District, Fryingpan-Arkansas Project, Colorado: Consideration of a long-term excess capacity contract. Contract executed on February 14, 2019.

18. Bureau of Land Management, Fryingpan-Arkansas Project, Colorado: Consideration of an excess capacity contract to store water in the Fryingpan-Arkansas Project. Contract executed on February 14, 2019.

Discontinued contract actions:

7. Roger W. Evans (Individual); Boysen Unit, P-SMBP; Wyoming: Renewal of long-term water service contract.

13. Western Heart River ID; Heart Butte Unit, P-SMBP; North Dakota: Consideration of amending the long-term irrigation repayment contract and project-use power contract to include additional acres.

Lisa Vehmas,
Acting Director, Policy and Administration.

[FR Doc. 2019-14725 Filed 7-10-19; 8:45 am]

BILLING CODE 4332-90-P